DEPARTMENT OF COMMERCE

National Oceanic and Atmospheric Administration

RIN 0648-XA11

Fisheries of the Caribbean, Gulf of Mexico, and South Atlantic; South Atlantic Exempted Fishing Permit

AGENCY: National Marine Fisheries Service (NMFS), National Oceanic and Atmospheric Administration (NOAA), Commerce.

ACTION: Notice of receipt of an application for an exempted fishing permit; request for comments.

SUMMARY: NMFS announces the receipt of an application for an exempted fishing permit (EFP) from Rachel Kalisperis on behalf of the South Carolina Aquarium. If granted, the EFP would authorize the applicant, with certain conditions, to collect limited numbers of groupers (not including goliath grouper), snappers, tilefishes, sea basses, jacks, spadefish, grunts, porgies, mackerel, cero, cobia, dolphin fish, spiny lobster, little tunny, triggerfishes, golden crab, hogfish, porkfish, puddingwife, red drum, scup, sheepshead, shrimp, wahoo, and wreckfish. Specimens would be collected from Federal waters off the coast of South Carolina from 2007 to 2012 and displayed at the South Carolina Aquarium, located in Charleston, South Carolina.

DATES: Comments must be received no later than 5 p.m., eastern standard time, on May 25, 2007.

ADDRESSES: Comments on the application may be sent via fax to 727-824-5308 or mailed to: Julie Weeder, Southeast Regional Office, NMFS, 263 13th Avenue South, St. Petersburg, FL 33701. Comments may also be submitted by e-mail. The mailbox address for providing e-mail comments is SouthCarolina.Aquarium@noaa.gov. Include in the subject line of the e-mail document the following text: Comment on South Carolina Aquarium EFP Application. The application and related documents are available for review upon written request to the address above or the e-mail address below.

FOR FURTHER INFORMATION CONTACT: Julie Weeder, 727-551-5753; fax 727-824-5308; e-mail: Julie.Weeder@noaa.gov.

SUPPLEMENTARY INFORMATION: The EFP is requested under the authority of the Magnuson-Stevens Fishery Conservation and Management Act (16 U.S.C. 1801 et seq.), and regulations at 50 CFR 600.745(b) concerning exempted fishing.

According to the applicant, the South Carolina Aquarium is a public, non-profit institution located in Charleston, South Carolina. Its mission is to provide entertainment and education and to support conservation through aquatic exhibits displaying animals from South Carolina.

The proposed collection for public display involves activities otherwise prohibited by regulations implementing the Fishery Management Plans (FMPs) for the Snapper-Grouper Fishery of the South Atlantic Region, Shrimp Fishery of the South Atlantic Region, Spiny Lobster Fishery of the Gulf of Mexico and South Atlantic, Dolphin and Wahoo Fishery off the Atlantic States, and Coastal Migratory Pelagics Resources.

The applicant requires authorization to harvest and possess up to the following numbers of fishes during each 12-month period from June 20, 2007, to June 19, 2012: 50 Atlantic spadefish, 15 blueline tilefish, 12 cero, 6 cobia, 50 dolphin fish, 5 golden crab, 15 golden tilefish, 40 groupers of the genus Epinephelus (not including goliath grouper), 50 groupers of the genus Mycteroperca, 150 grunts, 6 hogfish, 100 jacks of the genus Caranx, 50 jacks of the genus Seriola, 15 king mackerel, 25 little tunny, 3 ocean triggerfish, 65 porgies, 15 porkfish, 2 puddingwife, 2 queen snapper, 12 red drum, 25 red porgy, 13 sand tilefish, 40 scup, 40 sea basses, 15 sheepshead, 375 shrimp, 75 snappers, 15 Spanish mackerel, 25 spiny lobster, 12 triggerfishes, 50 vermilion snapper, 5 wahoo, 10 wreckfish, and 15 yellowtail snapper. Specimens would be collected from Federal waters off the coast of South Carolina from June 20, 2007, to June 19, 2012.

Fishes would be captured in some areas using hand nets in conjunction with scuba, dip nets deployed from a boat, hook and line, black sea bass pots, spiny lobster traps, golden crab traps, “bait fish” traps, “habitat” traps, and “octopus” traps. Black sea bass pots, spiny lobster traps, and golden crab traps will meet the construction requirements of 50 CFR 622.40. “Bait fish” traps are commercially available designs made of 0.25-inch (0.6-cm) or 1-inch (2.5-cm) galvanized wire mesh. “Habitat” traps, which are designed to target benthic fishes, are made of 4-inch (10.2-cm) high sections of 20-inch (50.8-cm) diameter PVC pipe which is sealed off at both ends. Each trap has one 3-inch (7.6-cm) diameter hole in one side. The traps are weighted using approximately 3.5-lb (1.6-kg) of cement, and deployed on longlines or hand placed by divers. The second trap type is designed to target octopus. These traps are made of 18-inch (45.7-cm) lengths of 4-inch (10.2-cm) diameter black corrugated drainage pipe. Cement is used to seal one end to a depth of approximately 2.5-inches (6.4-cm). “Habitat” and “octopus” traps have unblocked openings and no internal compartments, so animals may come and go at will. Sea bass pots, spiny lobster traps, and golden crab traps will be deployed for no more than 5 hours at a time. No more than five traps or pots of each type will be deployed at one time. These traps or pots will be set on individual lines. “Bait fish” traps will only be deployed during scuba dives for a maximum of 5 hours and will be retrieved when divers exit the water. “Habitat” and “octopus” traps will be deployed on a 500-ft (152-m) longline with an anchor and buoy at each end. “Habitat” traps may also be hand placed by divers. “Habitat” and “octopus” trap sets will not exceed 14 days.

NMFS finds this application warrants further consideration. Based on a preliminary review, NMFS intends to issue an EFP. Possible conditions the agency may impose on this permit, if it is indeed granted, include but are not limited to: Reduction in the number or species of fish to be collected; restrictions on the placement of traps, especially with respect to fragile habitat; restrictions on the size of fish to be collected; prohibition of the harvest of any fish with visible external tags; and specification of locations, dates, and/or seasons allowed for collection of particular fish species. A final decision on issuance of the EFP will depend on a NMFS review of public comments received on the application, consultations with the affected states, the South Atlantic Fishery Management Council, and the U.S. Coast Guard, and a determination that it is consistent with all applicable laws. The applicant requests a 5-year (60-month) effective period for the EFP.

Authority: 16 U.S.C. 1801 et seq.

Dated: May 7, 2007.
James P. Burgess
Acting Director, Office of Sustainable Fisheries, National Marine Fisheries Service.

[FR Doc. E7-9046 Filed 5-9-07; 8:45 am]

BILLING CODE 3510-22-S